DEPARTMENT OF LABOR

Employment and Training Administration

[TA-W-82,620]

Hewlett Packard Company, Hewlett Packard Enterprise Business Unit, EG HP Storage, Enterprise Storage, Servers and Networking Storage, APP Management, Research and Development Group, Andover, Massachusetts; Notice of Investigation

Pursuant to Section 221 of the Trade Act of 1974, as amended, an investigation was initiated on April 1, 2013 in response to a petition filed on behalf of workers of Hewlett Packard Company, Hewlett Packard Enterprise Business Unit, EG HP Storage, Enterprise Storage, Servers and Networking Storage Division, APP Management, Research and Development Group, Andover, Massachusetts. On April 11, 2013, the Department issued a Notice of Termination of Investigation because the petitioning workers are part of an on-going investigation (TA-W-82,578). On June 20, 2013, the Department issued a Notice of Termination of Investigation for TA-W-82,578. Because the basis for the termination of the investigation of TA-W-82,620 no longer exists, the Department will re-open the investigation of TA-W-82,620.

Signed in Washington, DC this 9th day of July, 2013.
Del Min Amy Chen,
Certifying Officer, Office of Trade Adjustment Assistance.

[FR Doc. 2013-19189 Filed 8-7-13; 8:45 am]

BILLING CODE 4510-FN-P